DEPARTMENT OF COMMERCE

Patent and Trademark Office

[Docket No.: PTO-P-2021-0037]

Third Extension of the Modified COVID-19 Prioritized Examination Pilot Program for Patent Applications

AGENCY: Patent and Trademark Office, Department of Commerce.

ACTION: Notice.

SUMMARY: The United States Patent and Trademark Office (USPTO or Office) is extending the modified COVID-19 Prioritized Examination Pilot Program, which provides prioritized examination of certain patent applications. Requests that are compliant with the pilot program's requirements and are filed on or before June 30, 2022, will be accepted. The USPTO will evaluate whether to terminate or further extend the program during this extension period.

DATES: The COVID-19 Prioritized Examination Pilot Program is extended as of March 25, 2022, to run until June 30, 2022.

FOR FURTHER INFORMATION CONTACT: Robert A. Clarke, Director, Office of Patent Legal Administration (571-272-7735; robert.clarke@uspto.gov).

SUPPLEMENTARY INFORMATION: On May 14, 2020, the USPTO published a notice on the implementation of the COVID-19 Prioritized Examination Pilot Program. See COVID-19 Prioritized Examination Pilot Program, 85 FR 28932 (May 14, 2020) (COVID-19 Track One Notice). On September 3, 2021, the USPTO published a notice extending the program to December 31, 2021, and modifying it by removing the limit on the number of patent applications that could receive prioritized examination. See Modification of COVID-19 Prioritized Examination Pilot Program, 86 FR 49522 (September 3, 2021). On December 30, 2021, the USPTO published a notice extending the program to March 31, 2022. See Extension of the Modified COVID-19 Prioritized Examination Pilot Program, 86 FR 74406 (December 30, 2021) (Second Extension Notice).

The COVID-19 Track One Notice indicated that an applicant may request prioritized examination without payment of the prioritized examination fee and associated processing fee if: (1) The patent application's claim(s) covered a product or process related to COVID-19, (2) the product or process was subject to an applicable Food and Drug Administration (FDA) approval for COVID-19 use, and (3) the applicant met other requirements noted in the COVID-19 Track One Notice. As of February 7, 2022, 225 patents had issued from applications granted prioritized status under the pilot program. The average total pendency, including time consumed by continued examination, from filing date to issue date for those applications was 298 days. The shortest pendency from filing date to issue date for those applications was 75 days.

The Second Extension Notice indicated that the pilot program would expire on March 31, 2022. In the current notice, the USPTO is further extending the pilot program by setting the expiration date as June 30, 2022. The Office will evaluate whether to terminate or further extend the program during this third extension period. If the USPTO determines that an additional extension of the pilot program is appropriate, the agency will publish a subsequent notice to the public.

Unless the pilot program is further extended by a subsequent notice, following the expiration of this extension, the pilot program will be terminated, and patent applicants interested in expediting the prosecution of their patent application may instead seek to use the Prioritized Examination (Track One) Program. Patent applications accorded prioritized examination under the pilot program will not lose that status merely because the application is still pending after the date the pilot program is terminated but will instead retain prioritized examination status until that status is terminated for one or more reasons, as described in the COVID-19 Track One Notice.

The Track One Program permits an applicant to have a patent application advanced out of turn (accorded special status) for examination under 37 CFR 1.102(e) if the applicant timely files a request for prioritized (Track One) examination accompanied by the appropriate fees and meets the other conditions of 37 CFR 1.102(e). See Manual of Patent Examining Procedure 708.02(b)(2). The current fee schedule is available at www.uspto.gov/learning-and-resources/fees-and-payment/uspto-fee-schedule.

The Track One Program does not have the restrictions of the COVID-19 Prioritized Examination Pilot Program on the types of inventions for which special status may be sought, as the Track One Program does not require a connection to any particular technology. Moreover, under the Track One Program, an applicant can avoid delays associated with the determination of whether a patent application presents a claim that covers a product or process related to COVID-19 and whether the product or process is subject to an applicable FDA approval for COVID-19 use.

Andrew Hirshfeld,
Commissioner for Patents, Performing the Functions and Duties of the Under Secretary of Commerce for Intellectual Property and Director of the United States Patent and Trademark Office.

[FR Doc. 2022-06294 Filed 3-24-22; 8:45 am]

BILLING CODE 3510-16-P